UNIFIED CARRIER REGISTRATION PLAN

Sunshine Act Meeting Notice; Unified Carrier Registration Plan Board of Directors Meeting

TIME AND DATE: June 9, 2020, from Noon to 3:00 p.m., Eastern time.

PLACE: This meeting will be accessible via conference call and screen sharing. Any interested person may call 877-853-5247 (US toll free), 888-788-0099 (US toll free), +1 669-900-6833 (US toll), or +1 929-205-6099 (US toll), Conference ID 996 1775 0976, to participate in the meeting.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

Agenda will be reviewed and the Board will consider adoption.

Ground Rules

➢ Board actions taken only in designated areas on agenda

IV. Approval of Minutes of the April 23, 2020 UCR Board Meeting—UCR Executive Director

For Discussion and Possible Action

Minutes of the April 23, 2020 Board meeting will be reviewed. The Board will consider action to approve.

V. Discussion of COVID-19 Impact on UCR—UCR Board Chair

The UCR Board Chair will lead a discussion on the impact of the COVID-19 pandemic on industry, state operations, and UCR collections.

VI. Report of FMCSA—FMCSA Representative

FMCSA will provide a report on any relevant activity.

VII. Updates Concerning UCR Legislation—UCR Board Chair

The UCR Board Chair will call for any updates regarding UCR legislation since the last Board meeting.

VIII. Chief Legal Officer Report—UCR Executive Director

The UCR Chief Legal Officer will provide an update on the status of the March 2019 data event and the Twelve Percent Logistics litigation.

IX. Subcommittee Reports

Audit Subcommittee—UCR Audit Subcommittee Chair

A. Update on 2020 State Compliance Reviews—UCR Depository Manager

The UCR Depository Manager will provide an update on the plans for the 2020 state compliance reviews, including contingency plans related to the COVID-19 pandemic.

B. Update on the 2020 New Entrant and Unregistered Solicitation Campaigns—Seikosoft

Seikosoft will provide an updated report on new entrant motor carrier campaigns managed by the National Registration System (NRS), new entrant motor carrier campaigns managed by the states, unregistered motor carrier campaigns managed by the NRS, and unregistered motor carrier campaigns managed by the states.

C. Update on the Non-Universe Motor Carrier Solicitation Campaigns—Seikosoft

Seikosoft will provide an updated report on the solicitation campaign targeting motor carriers identified through roadside inspections to be operating in interstate commerce but identified in MCMIS as either intrastate or inactive.

D. Update on the NRS Audit Report Tool and Transition to Excel Format—Seikosoft/UCR Audit Subcommittee Chair

Seikosoft and the UCR Audit Subcommittee Chair will provide an update on the NRS Audit Report Tool.

E. Update on the July 1st State Audit Report—UCR Audit Subcommittee Chair

The UCR Audit Subcommittee Chair will provide an update to participating states with regards to reporting on the 2019 audits that must be completed by July 1, 2020.

F. Discussion on Focused Anomaly Reviews (FARs) and MCS-150 Audit Reporting Strategy—UCR Audit Subcommittee Chair

The UCR Audit Subcommittee Chair will lead a discussion concerning the reporting strategy in regards to FARs and MCS-150 forms.

G. Update on the Audits of the Depository—UCR Depository Manager

The UCR Depository Manager will provide an update on the planned completion of the 2017-2018 Depository audits and discuss timing and actions for the upcoming Depository 2019 audit.

Finance Subcommittee—UCR Finance Subcommittee Chair

A. Status of 2020 Registration Year Fee Collections—UCR Depository Manager

The UCR Depository Manager will provide an update on the status of collections for the 2020 registration year and compare to 2019 registrations for the equivalent time-period one year ago, to provide perspective on the impact of the COVID-19 crisis. The Depository Manager will also provide additional insights regarding registration compliance rates for 2020 and compare against 2019.

B. Investment Accounts Update—UCR Depository Manager

The UCR Depository Manager will provide an update on the earnings from the UCR's investment accounts and provide insight on the continued reduction of the interest rates paid on the UCR's financial accounts.

C. 2020 Operating Costs—UCR Depository Manager

The UCR Depository Manager will provide an update on the year-to-date costs of operating the UCR Plan and provide insights into how actual costs compare with the 2020 operating budget.

D. Upcoming Depository Distribution and Timing of Next Registration Fee Disbursements—UCR Depository Manager

The UCR Depository Manager will discuss the near-term plans for disbursements of May registration fees collected, and the next planned distribution of funds to states that have not yet met revenue entitlements.

Education and Training Subcommittee—UCR Education and Training Subcommittee Chair

A. Update on Plans to Launch Training Modules—UCR Education and Training Subcommittee Chair

The UCR Education and Training Subcommittee Chair will provide an update on plans to launch an initial wave of training modules by June 2020.

X. Contractor Reports—UCR Executive Director

• UCR Executive Director

The UCR Executive Director will provide a report covering recent activity for the UCR Plan.

• DSL Transportation Services, Inc.

DSL will report on the latest data on state collections based on reporting from the FARs program.

• Seikosoft

Seikosoft will provide an update on recent/new activity related to the NRS.

• UCR Administrator Report (Kellen)—UCR Operations and Depository Managers

The UCR Administrator will provide its management report covering recent activity for the Depository, Operations, and Communications.

XI. Other Business—UCR Board Chair

The UCR Board Chair will call for any business, old or new, from the floor.

XII. Adjournment—UCR Board Chair

The UCR Board Chair will adjourn the meeting.

This agenda will be available no later than 5:00 p.m. Eastern time, June 1, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-12211 Filed 6-2-20; 4:15 pm]

BILLING CODE 4910-YL-P